SMALL BUSINESS ADMINISTRATION

SBIR/STTR Logo Design Competition Announcement: Correction

The Small Business Administration published a document in the Federal Register of May 5, 2015 (Vol. 80, No. 86, Pages 25763-25765), concerning the announcement of a competition to design a logo for the Small Business Innovation Research (SBIR) and Small Business Technology Transfer (STTR) Programs. The document needs to be corrected to reflect the fact that the only judges for the competition will be SBA Officials and other SBIR/STTR Program Managers. The current document indicates that at least one of the judges will be from the National Endowment for the Arts.

In the document printed on May 5, 2015, the first full sentence on page 25764 under the caption: “5. Selection of Winners” includes a reference that at least one official from the National Endowment for the Arts will serve as a judge. This reference should be removed and the sentence should read:

5. Selection of Winners: SBA will select a judging panel that will consist of SBA Officials and Program Managers of the SBIR/STTR participating Federal agencies.

John R. Williams,
Director, Office of Innovation and Technology.

[FR Doc. 2015-11277 Filed 5-8-15; 8:45 am]

BILLING CODE P